COMMITTEE FOR PURCHASE FROM PEOPLE WHO ARE BLIND OR SEVERELY DISABLED

Procurement List; Deletions

AGENCY: Committee for Purchase From People Who Are Blind or Severely Disabled.

ACTION: Deletions from the Procurement List.

SUMMARY: The Committee is proposing to delete services from the Procurement List that were previously provided by nonprofit agencies employing persons who are blind or have other severe disabilities.

DATES: Effective Date: May 29, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Deletions

On 3/25/2016 (81 FR 16145-16146), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide services to the Government.

3. There are no known regulatory alternatives which would accomplish the objectives of the Javits-Wagner-O'Day Act (41 U.S.C. 8501-8506) in connection with the services deleted from the Procurement List.

End of Certification

Accordingly, the following services are deleted from the Procurement List:

Services

Service(s) Type: Switchboard Service, Library Service

Mandatory for: Minot Air Force Base, Minot AFB, ND

Mandatory Source(s) of Supply: MVW Services, Inc., Minot, ND

Contracting Activities: Dept of the Air Force, FA4528 5 CONS LGCP, Minot AFB, ND, Dept of the Air Force, FA7014 AFDW PK, Andrews AFB, MD

Service Type: Mess Attendant Service

Mandatory for: 192d FW VA Air National Guard Sandston, VA

Mandatory Source(s) of Supply: Richmond Area Association for Retarded Citizens, Richmond, VA

Contracting Activity: Dept of the Air Force, FA7014 AFDW PK, Andrews AFB, MD

Service Type: Switchboard Operation Service

Mandatory for: Ellsworth Air Force Base, Ellsworth AFB, SD

Mandatory Source(s) of Supply: BH Services, Inc., Ellsworth AFB, SD

Contracting Activity: Dept of the Air Force, FA4690 28 CONS LGC, Ellsworth AFB, SD

Barry S. Lineback,
Director, Business Operations.

[FR Doc. 2016-10181 Filed 4-29-16; 8:45 am]

BILLING CODE 6353-01-P